DEPARTMENT OF LABOR

Occupational Safety and Health Administration

[Docket No. OSHA-2022-0011]

Maritime Advisory Committee on Occupational Safety and Health (MACOSH)

AGENCY: Occupational Safety and Health Administration (OSHA), Labor.

ACTION: Notice of MACOSH membership.

SUMMARY: On March 7, 2023, the Secretary appointed 15 members and a Special Agency Liaison to serve on the Maritime Advisory Committee on Occupational Safety and Health (MACOSH) for a two-year term from April 13, 2023-April 13, 2025.

FOR FURTHER INFORMATION CONTACT:

For press inquiries: Mr. Frank Meilinger, Director, OSHA Office of Communications, U.S. Department of Labor; telephone (202) 693-1999; email: Meilinger.Francis2@dol.gov.

For general information about MACOSH: Ms. Amy Wangdahl, Director, Office of Maritime and Agriculture, OSHA, U.S. Department of Labor; telephone (202) 693-2066; email: Wangdahl.amy@dol.gov.

SUPPLEMENTARY INFORMATION:

I. Background

MACOSH is established and operates in accordance with section 7(d) of the Occupational Safety and Health Act of 1970 (OSH Act) (29 U.S.C. 656); 29 CFR part 1912; and Secretary of Labor's Order 8-2020 (85 FR 58393, September 18, 2020). In addition, MACOSH is established and operates in accordance with the Federal Advisory Committee Act (FACA), (5 U.S.C. 10), its implementing regulations (41 CFR parts 101-6 and 102-3), and Department of Labor Manual Chapter 1-900 (August 31, 2020). The Committee advises OSHA on matters relevant to the safety and health of employees in the maritime industry. This includes advice on maritime issues that will result in more effective enforcement, training, and outreach programs, and streamlined regulatory efforts. The maritime industry includes shipyard employment, longshoring, marine terminal, and commercial fishing industries. The Committee functions solely as an advisory body in compliance with the provisions of the FACA and OSHA's regulations covering advisory committees (29 CFR part 1912).

The maritime industry has historically experienced a high incidence of work-related fatalities, injuries, and illnesses. OSHA has targeted this industry for special attention due to that experience. This targeting includes development of guidance or outreach materials specific to the industry, rulemakings to update requirements, and other activities. MACOSH advises the Secretary through the Assistant Secretary of Labor for Occupational Safety and Health on matters relevant to the safety and health of employees in the maritime industry. The Committee's advice will result in more effective enforcement, training and outreach programs, and streamlined regulatory efforts.

II. Appointment of Committee Members

OSHA received nominations of highly qualified individuals in response to the agency's request for nominations (87 FR 71686, November 23, 2022). The Secretary appointed to serve on the Committee individuals who have broad experience relevant to the issues to be examined by the Committee. The Committee is diverse and balanced, both in terms of segments of the maritime industry represented (e.g., shipyard employment, longshoring, marine terminal, and commercial fishing industries), and in the views and interests represented by the members. The MACOSH membership is as follows:

Government Interests

• John Goering, U.S. Department of Transportation, Maritime Administration

• James Rone, Washington State Department of Labor and Industries

• Alice Shumate, National Institute for Occupational Safety and Health

• David Ward, U.S. Coast Guard

Worker Interests

• Aaron Arabaski, Noble Drilling

• Robert Fiore, International Longshoremen's Association

• Michael Oathout, International Association of Machinists and Aerospace Workers

• Adam Wetzell, International Longshore and Warehouse Union

Employer Interests

• Solomon Egbe, National Maritime Safety Association

• Amy Liu, Sound Testing, Inc.

• John Ratcliffe, Virginia International Terminals, LLC

• David Turner, Yusen Terminals, LLC

Professional Organization Interests

• Thresa Nelson, American Industrial Hygiene Association

• Donald V. Raffo, Marine Chemist Association

• Lawrence Russell, National Fire Protection Association

The Special Agency Liaison to MACOSH is:

• Christopher Godfrey, Office of Workers' Compensation Programs, U.S. Department of Labor

Authority and Signature

James S. Frederick, Deputy Assistant Secretary of Labor for Occupational Safety and Health, authorized the preparation of this notice pursuant to 29 U.S.C. 655 and 656(d), Secretary's Order 8-2020 (85 FR 58393), 5 U.S.C. 10, and 29 CFR part 1912.

Signed at Washington, DC, on April 12, 2023.
James S. Frederick,
Deputy Assistant Secretary of Labor for Occupational Safety and Health.

[FR Doc. 2023-08314 Filed 4-19-23; 8:45 am]

BILLING CODE 4510-26-P